DEPARTMENT OF DEFENSE

Department of the Navy

Meetings of the Naval Research Advisory Committee

AGENCY: Department of the Navy, DoD.

ACTION: Notice of partially closed meeting.

SUMMARY: The Naval Research Advisory Committee (NRAC) will meet to discuss classified information from government organizations. All sessions of the meetings, except the NRAC Security, Ethics, and Travel Brief on Tuesday, December 5, 2006 from 9 a.m. to 10:30 a.m., will be devoted to briefings, discussions, and technical examinations of issues related to maritime strategy and Department of the Navy plans, programs, and objectives. It is envisioned that these discussions will enable the NRAC to identify technology gaps where additional science and technology investments may be needed to satisfy current and projected Navy and Marine Corps requirements.

DATES: The meetings will be held on Tuesday, December 5, 2006, from 10:30 a.m. to 5 p.m. through Wednesday, December 6, 2006, from 9 a.m. to 1 p.m. During the NRAC Security, Ethics, and Travel Brief on Tuesday, December 5, 2006 from 9 a.m. to 10:30 a.m., the meeting will be open to the public.

ADDRESSES: The meetings will be held at the Office of Naval Research, Room 1432, The Frances Rothwell Room, Arlington, VA 22203.

FOR FURTHER INFORMATION CONTACT: Dr. Sujata Millick, Program Director, Naval Research Advisory Committee, 875 North Randolph Street, Arlington, VA 22203-1995, 703-696-4875.

SUPPLEMENTARY INFORMATION: This notice is provided in accordance with the provisions of the Federal Advisory Committee Act (5 U.S.C. App. 2). All sessions of the meetings, except the NRAC Security, Ethics, and Travel Brief on Tuesday, December 5, 2006 from 9 a.m. to 10:30 a.m., will be devoted to executive sessions that will include discussions and technical examinations of information related to forthcoming NRAC studies. These briefings and discussions will contain classified information that is specifically authorized under criteria established by Executive Order to remain classified in the interest of national defense and are properly classified pursuant to such Executive Order. The classified and non-classified matters to be discussed are so inextricably intertwined as to preclude opening any portions of the meetings. In accordance with 5 U.S.C. App. 2, section 10(d), the Secretary of the Navy has determined in writing that the public interest requires that all sessions of the meeting, with the exception of the NRAC Security, Ethics, and Travel Brief on Tuesday, December 5, 2006 from 9 a.m. to 10:30 a.m., be closed to the public because the sessions will be concerned with matters listed in 5 U.S.C. 552b(c)(1) and (4).

Dated: November 20, 2006.
M.A. Harvison,
Lieutenant Commander, Judge Advocate General's Corps, U.S. Navy, Federal Register Liaison Officer.

[FR Doc. E6-20118 Filed 11-27-06; 8:45 am]

BILLING CODE 3810-FF-P